DEPARTMENT OF HEALTH AND HUMAN SERVICES

National Institutes of Health

Center for Scientific Review; Amended Notice of Meeting

Notice is hereby given of a change in the meeting of the Cancer Genetics Study Section, October 10, 2013, 08:00 a.m. to October 10, 2013, 06:30 p.m., Renaissance Arlington Capital View Hotel, 2800 South Potomac Ave, Arlington, VA, 22202 which was published in the Federal Register on September 11, 2013, 78 FR 176 Pgs. 55752-55753.

The meeting will be held at the Embassy Suites Chevy Chase, 4300 Military Rd. NW., Washington, DC 20015. The meeting will start on January 10, 2014 at 8:00 a.m. and end January 10, 2014 at 6:00 p.m. The meeting is closed to the public.

Dated: November 5, 2013.
Michelle Trout,
Program Analyst, Office of Federal Advisory Committee Policy.

[FR Doc. 2013-26893 Filed 11-8-13; 8:45 am]

BILLING CODE 4140-01-P